NATIONAL SCIENCE FOUNDATION

Advisory Committee for Biological Sciences; Notice of Meeting

In accordance with the Federal Advisory Committee Act (Pub. L. 92-463, as amended), the National Science Foundation announces the following meeting:

Name: Advisory Committee for Biological Sciences (1110).

Date and Time: April 17, 2008—8:30 a.m.-5 p.m.

April 18, 2008—9 a.m.-12 p.m.

Place: National Science Foundation, 4201 Wilson Blvd, Arlington, VA 22230, Room 1235.

Type of Meeting: Open.

Contact Person: Dr. Charles Liarakos, Senior Advisor, Biological Sciences, Room 605, National Science Foundation, 4201 Wilson Boulevard, Arlington, VA 22230 Tel No.: (703) 292-8400.

Minutes: May be obtained from the contact person listed above.

Purpose of Meeting: The Advisory Committee for BIO provides advice, recommendations, and oversight concerning major program emphases, directions, and goals for the research-related activities of the divisions that make up BIO.

Agenda:

• FY '09 Budget—Life in Transition

• Biology in the Federal Science Enterprise

• Leading Edge

• Undergraduate Biology Education

Dated: March 18, 2008.
Susanne Bolton,
Committee Management Officer.

[FR Doc. E8-5714 Filed 3-20-08; 8:45 am]

BILLING CODE 7555-01-P